DEPARTMENT OF TRANSPORTATION

Federal Aviation Administration

14 CFR Part 97

[Docket No. 31235; Amdt. No. 3837]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 14, 2019. The compliance date for each SIAP, associated Takeoff Minimums, and ODP is specified in the amendatory provisions.

The incorporation by reference of certain publications listed in the regulations is approved by the Director of the Federal Register as of February 14, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on January 25, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 28 February 2019

Anchorage, AK, Ted Stevens Anchorage Intl, RNAV (RNP) RWY 33, Amdt 1A

Burbank, CA, Bob Hope, ILS Y OR LOC Y RWY 8, Amdt 6A

Burbank, CA, Bob Hope, ILS Z OR LOC Z RWY 8, Amdt 39A

Burbank, CA, Bob Hope, RNAV (GPS)-A, Orig-A

Burbank, CA, Bob Hope, RNAV (GPS) Z RWY 8, Amdt 2A

Burbank, CA, Bob Hope, RNAV (RNP) Y RWY 8, Amdt 2A

Burbank, CA, Bob Hope, VOR RWY 8, Amdt 12A

Inyokern, CA, Inyokern, RNAV (GPS) RWY 2, Amdt 1

Inyokern, CA, Inyokern, RNAV (GPS) Z RWY 2, Orig-A, CANCELED

Los Banos, CA, Los Banos Muni, RNAV (GPS) RWY 14, Orig-C

Los Banos, CA, Los Banos Muni, RNAV (GPS) RWY 32, Amdt 1

Los Banos, CA, Los Banos Muni, VOR RWY 32, Amdt 5A

Tulare, CA, Mefford Field, RNAV (GPS) RWY 13, Amdt 1

Tulare, CA, Mefford Field, VOR RWY 13, Amdt 2

Wilmington, DE, New Castle, ILS OR LOC RWY 1, Amdt 24

Stuart, FL, Witham Field, RNAV (GPS) RWY 12, Amdt 2

Albia, IA, Albia Muni, RNAV (GPS) RWY 13, Orig-B

Storm Lake, IA, Storm Lake Muni, RNAV (GPS) RWY 35, Amdt 1B

Sandpoint, ID, Sandpoint, RNAV (GPS) Y RWY 20, Orig

Sandpoint, ID, Sandpoint, RNAV (GPS) Z RWY 20, Orig

St Francis, KS, Cheyenne County Muni, RNAV (GPS) RWY 14, Orig

Louisville, KY, Bowman Field, RNAV (GPS) RWY 33, Orig-B

Louisville, KY, Bowman Field, VOR RWY 24, Amdt 9A, CANCELED

Boyne City, MI, Boyne City Muni, RNAV (GPS) RWY 27, Orig-C

Fairmont, MN, Fairmont Muni, RNAV (GPS) RWY 31, Orig-A

Minneapolis, MN, Minneapolis-St Paul Intl/Wold-Chamberlain, LOC RWY 4, Amdt 2

Minneapolis, MN, Minneapolis-St Paul Intl/Wold-Chamberlain, RNAV (GPS) RWY 4, Amdt 3

Rochester, MN, Rochester Intl, ILS OR LOC RWY 13, Amdt 9

Rochester, MN, Rochester Intl, RNAV (GPS) RWY 2, Amdt 3B

Rochester, MN, Rochester Intl, RNAV (GPS) RWY 13, Amdt 1B

Rochester, MN, Rochester Intl, RNAV (GPS) RWY 20, Amdt 2B

Windom, MN, Windom Muni, RNAV (GPS) RWY 17, Amdt 1

Windom, MN, Windom Muni, RNAV (GPS) RWY 35, Amdt 1

Conrad, MT, Conrad, NDB OR GPS RWY 24, Amdt 4C, CANCELED

Conrad, MT, Conrad, RNAV (GPS) RWY 6, Orig

Conrad, MT, Conrad, RNAV (GPS) RWY 24, Orig

Conrad, MT, Conrad, Takeoff Minimums and Obstacle DP, Amdt 1

Jacksonville, NC, Albert J Ellis, NDB RWY 5, Amdt 8D

Valentine, NE, Miller Field, RNAV (GPS) RWY 14, Amdt 2A

Valentine, NE, Miller Field, RNAV (GPS) RWY 21, Orig-A

Valentine, NE, Miller Field, Takeoff Minimums and Obstacle DP, Amdt 3

Morristown, NJ, Morristown Muni, RNAV (GPS) RWY 5, Amdt 5

Sand Springs, OK, William R Pogue Muni, NDB RWY 35, Amdt 2F, CANCELED

Sand Springs, OK, William R Pogue Muni, RNAV (GPS) RWY 17, Orig-A

Sand Springs, OK, William R Pogue Muni, RNAV (GPS) RWY 35, Orig-A

Sand Springs, OK, William R Pogue Muni, VOR/DME-A, Amdt 3A, CANCELED

Tulsa, OK, Richard Lloyd Jones JR, ILS OR LOC RWY 1L, Amdt 3

Pittsburgh, PA, Pittsburgh Intl, ILS OR LOC RWY 28R, ILS RWY 28R SA CAT I, ILS RWY 28R SA CAT II, Amdt 10A

Shelbyville, TN, Bomar Field-Shelbyville Muni, VOR RWY 36, Amdt 17

College Station, TX, Easterwood Field, VOR OR TACAN RWY 11, Amdt 19E

Dallas, TX, McKinney National, ILS OR LOC RWY 18, Amdt 6

El Paso, TX, El Paso Intl, RNAV (GPS) RWY 26R, Amdt 1

San Angelo, TX, San Angelo Rgnl/Mathis Field, ILS Y OR LOC Y RWY 3, Amdt 22

San Angelo, TX, San Angelo Rgnl/Mathis Field, NDB RWY 3, Amdt 15

San Angelo, TX, San Angelo Rgnl/Mathis Field, RADAR 1, Amdt 1B

San Angelo, TX, San Angelo Rgnl/Mathis Field, RNAV (GPS) RWY 3, Amdt 2

San Angelo, TX, San Angelo Rgnl/Mathis Field, RNAV (GPS) RWY 18, Amdt 1

San Angelo, TX, San Angelo Rgnl/Mathis Field, RNAV (GPS) RWY 21, Amdt 2

Ogden, UT, Ogden-Hinckley, ILS OR LOC RWY 3, Amdt 5

Ogden, UT, Ogden-Hinckley, RNAV (GPS) RWY 3, Amdt 1

Ogden, UT, Ogden-Hinckley, RNAV (GPS) Y RWY 3, Orig-A, CANCELED

Port Angeles, WA, Port Angeles CGAS, COPTER NDB 242, Amdt 1A

Seattle, WA, Seattle-Tacoma Intl, ILS OR LOC RWY 16C, ILS RWY 16C SA CAT I, ILS RWY 16C CAT II, ILS RWY 16C CAT III, Amdt 17

Seattle, WA, Seattle-Tacoma Intl, ILS OR LOC RWY 16L, ILS RWY 16L SA CAT I, ILS RWY 16L CAT II, ILS RWY 16L CAT III, Amdt 8

Seattle, WA, Seattle-Tacoma Intl, ILS OR LOC RWY 16R, ILS RWY 16R SA CAT I, ILS RWY 16R CAT II, ILS RWY 16R CAT III, Amdt 5

Seattle, WA, Seattle-Tacoma Intl, ILS OR LOC RWY 34R, ILS RWY 34R SA CAT I, ILS RWY 34R SA CAT II, Amdt 3

Appleton, WI, Appleton Intl, ILS OR LOC RWY 30, Amdt 4

Wisconsin Rapids, WI, Alexander Field South Wood County, RNAV (GPS) RWY 20, Amdt 2

[FR Doc. 2019-02050 Filed 2-13-19; 8:45 am]

BILLING CODE 4910-13-P